FEDERAL COMMUNICATIONS COMMISSION

47 CFR Parts 1, 80 and 95

[WT Docket No. 14-36; FCC 14-20]

Maritime Radio Equipment and Related Matters

AGENCY: Federal Communications Commission.

ACTION: Proposed rule.

SUMMARY: In this document, the Federal Communications Commission (Commission or FCC) invites comment on issues regarding updating rules and requirements for technologies used to locate and rescue distressed ships and individuals in distress at sea or on land to provide better and more accurate data to rescue personnel. The Commission also invites comments on rules regarding radar equipment, the use of portable marine Very High Frequency (VHF) transmitters by persons on shore; permitting VHF digital small message service (VDSMS); and allowing assignment or transfer of control of ship station licenses.

These rules will enable the maritime radio services to better protect lives and property at sea, as well as support improved day-to-day operations. New technologies will be used to locate and rescue distressed ships and individuals in distress at sea or on land to provide better and more accurate data to rescue personnel.

DATES: Submit comments on or before June 2, 2014, and reply comments are due on or before June 30, 2014.

ADDRESSES: You may submit comments, identified by WT Docket No. 14-36, FCC 14-20, by any of the following methods:

• Federal eRulemaking Portal: http://www.regulations.gov. Follow the instructions for submitting comments.

• Federal Communications Commission's Web site: http://www.fcc.gov/cgb/ecfs/. Follow the instructions for submitting comments.

• Mail: Federal Communications Commission, 445 12th Street SW., Washington, DC 20554.

• People With Disabilities: Contact the FCC to request reasonable accommodations (accessible format documents, sign language interpreters, CART, etc.) by email: FCC504@fcc.gov or phone 202-418-0530 or TTY: 202-418-0432.

For detailed instructions for submitting comments and additional information on the rulemaking process, see the SUPPLEMENTARY INFORMATION section of this document.

FOR FURTHER INFORMATION CONTACT: James Shaffer, James.Shaffer@FCC.gov, Wireless Telecommunications Bureau, (202) 418-0687, or TTY (202) 418-7233.

SUPPLEMENTARY INFORMATION: This is a summary of the Commission's Notice of Proposed Rulemaking (“NPRM”) in WT Docket No. 14-36, FCC 14-20, adopted on February 27, 2014, and released on February 28, 2014. The full text of this document is available for inspection and copying during normal business hours in the FCC Reference Center, 445 12th Street SW., Washington, DC 20554. The complete text may be purchased from the Commission's copy contractor, Best Copy and Printing, Inc., 445 12th Street SW., Room CY-B402, Washington, DC 20554. The full text may also be downloaded at: www.fcc.gov. Alternative formats are available to persons with disabilities by sending an email to fcc504@fcc.gov or by calling the Consumer & Governmental Affairs Bureau at 202-418-0530 (voice), 202-418-0432 (tty).

1. In this NPRM the Commission invites comment on whether to amend Parts 80 and 95 of our rules to: (1) Require emergency position indicating radio beacons (EPIRBs) to be capable of broadcasting position data when activated, which will improve the ability of rescue personnel to locate distressed ships; (2) update the equipment standards for Personal Locator Beacons (PLBs) to ensure that PLBs meet updated functional and technical parameters; (3) authorize equipment certification and use of Satellite Emergency Notification Devices (SENDs) that comply with RTCM standards, providing for the use of additional technologies for safety of life and rescue scenarios; (4) permit equipment certification and use of Maritime Survivor Locating Devices (MSLDs) that comply with RTCM standards, in order to enhance maritime safety; (5) provide for equipment certification and use of Automatic Identification System Search and Rescue Transmitters (AIS-SARTs) that comply with international standards, which will contribute to maritime safety; (6) clarify the rules regarding radar equipment; (7) permit the use of portable marine VHF radio transmitters by persons on shore; (8) permit VHF digital small message services (VDSMS) on certain maritime VHF channels; (9) allow assignment or transfer of control of ship station licenses, removing a regulatory hurdle to secondary market transactions; and (10) correct certain typographical errors.

I. Procedural Matters

Paperwork Reduction Analysis

2. This NPRM does not contain proposed information collection(s) subject to the Paperwork Reduction Act of 1995, Public Law 104-13. In addition, therefore, it does not contain a proposed new or modified “information collection burden for small business concerns with fewer than 25 employees,” pursuant to the Small Business Paperwork Relief Act of 2002, Public Law 107-198, see 44 U.S.C. 3506(c)(4).

Ex Parte Presentations

3. This is a permit-but-disclose notice and comment in accordance with the Commission's ex parte rules. Persons making ex parte presentations must file a copy of any written presentation or a memorandum summarizing any oral presentation within two business days after the presentation (unless a different deadline applicable to the Sunshine period applies). Persons making oral ex parte presentations are reminded that memoranda summarizing the presentation must: (1) List all persons attending or otherwise participating in the meeting at which the ex parte presentation was made; and (2) summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b). In proceedings governed by § 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Comment Dates and Filing Procedures

4. Pursuant to sections 1.415 and 1.419 of the Commission's rules, 47 CFR §§ 1.415, 1.419, interested parties may file comments on or before June 2, 2014 and reply comments on or before June 30, 2014. All filings related to the NPRM should refer to WT Docket No. 14-36.

5. Comments may be filed using the Commission's Electronic Comment Filing System (ECFS), the Federal Government's eRulemaking Portal, or by filing paper copies. See Electronic Filing of Documents in Rulemaking Proceedings, 63 FR 24121 (1998).

6. Comments may be filed electronically using the Internet by accessing the ECFS: http://www.fcc.gov/cgb/ecfs/ or the Federal eRulemaking Portal: http://www.regulations.gov. Filers should follow the instructions provided on the Web site for submitting comments.

7. For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet email. To get filing instructions, filers should send an email to ecfs@fcc.gov, and include the following words in the body of the message, “get form.” A sample form and directions will be sent in response.

8. Parties who choose to file by paper must file an original and four copies of each filing. If more than one docket or rulemaking number appears in the caption of this proceeding, filers must submit two additional copies for each additional docket or rulemaking number.

9. Filings can be sent by hand or messenger delivery, by commercial overnight courier, or by first-class or overnight U.S. Postal Service mail (although we continue to experience delays in receiving U.S. Postal Service mail). All filings must be addressed to the Commission's Secretary, Office of the Secretary, Federal Communications Commission.

10. The Commission's contractor will receive hand-delivered or messenger-delivered paper filings for the Commission's Secretary at 236 Massachusetts Avenue NE., Suite 110, Washington, DC 20002. The filing hours at this location are 8:00 a.m. to 7:00 p.m. All hand deliveries must be held together with rubber bands or fasteners. Any envelopes must be disposed of before entering the building.

11. Commercial overnight mail (other than U.S. Postal Service Express Mail and Priority Mail) must be sent to 9300 East Hampton Drive, Capitol Heights, MD 20743.

12. U.S. Postal Service first-class, Express, and Priority mail should be addressed to 445 12th Street SW., Washington, DC 20554.

13. All filings must be addressed to the Commission's Secretary, Marlene H. Dortch, Office of the Secretary, Federal Communications Commission, 445 12th Street SW., Washington, DC 20554. Parties shall also serve one copy with the Commission's copy contractor, Best Copy and Printing, Inc. (BCPI), Portals II, 445 12th Street SW., Room CY-B402, Washington, DC 20554, (202) 488-5300, or via email to fcc@bcpiweb.com.

14. Availability of documents. The public may view the documents filed in this proceeding during regular business hours in the FCC Reference Information Center, Federal Communications Commission, 445 12th Street SW., Room CY-A257, Washington, DC 20554, and on the Commission's Internet Home Page: <http://www.fcc.gov>. Copies of comments and reply comments are also available through the Commission's duplicating contractor: Best Copy and Printing, Inc. (BCPI), Portals II, 445 12th Street SW., Room CY-B402, Washington, DC 20554, telephone 1-800-378-3160, may be reached by email at fcc@bcpiweb.com or via BCPI's Web site at <WWW.BCPIWEB.COM>. To request materials in accessible formats for people with disabilities (braille, large print, electronic files, audio format), send an email to <fcc504@fcc.gov> or call the Consumer & Governmental Affairs Bureau at 202-418-0530 (voice), 202-418-0432 (tty).

II. Initial Regulatory Flexibility Analysis

15. As required by the Regulatory Flexibility Act (RFA), the Commission has prepared this present Initial Regulatory Flexibility Analysis (IRFA) of the possible significant economic impact on small entities by the policies and rules proposed in the Notice of Proposed Rulemaking (NPRM). Written public comments are requested on this IRFA. Comments must be identified as responses to the IRFA and must be filed by the deadlines for comments provided in this NPRM The Commission will send a copy of the NPRM, including this IRFA, to the Chief Counsel for Advocacy of the Small Business Administration. In addition, NPRM and IRFA (or summaries thereof) will be published in the Federal Register.

Need for, and Objectives of, the Proposed Rules

16. In the NPRM, we seek comment on rule amendments that are intended to enhance maritime safety and promote the efficient use of maritime radio spectrum. We also seek to conform the Commission's part 80 rules with international standards where doing so will not undermine domestic regulatory objectives.

17. In the NPRM, we first request comment on whether to require emergency position indicating radio beacons (EPIRBs) be capable of broadcasting GPS data when activated. EPIRBs are carried on board ships to alert others of a distress situation, and to assist search and rescue units in locating those in distress. EPIRBs that transmit GPS coordinates enable search and rescue authorities to determine an accurate location significantly faster than traditional EPIRBs, which rely on satellite Doppler shift to identify the distress location. Second, we invite comments on whether to update the equipment standards for Personal Locator Beacons (PLBs). Like EPIRBs, PLBs send distress signals that are detected by satellite and relayed to search and rescue authorities. Incorporation of the most recent standards will ensure that PLBs meet current functional and technical parameters. Third, we ask commenters to consider whether we should amend the rules to authorize equipment certification and use of Satellite Emergency Notification Devices (SENDs) under Part 95 of the Commission's Rules, or continue to authorize them under Part 25. SENDs also send distress signals, but they typically are subscription services that utilize commercial mobile satellite service systems. Fourth, we ask whether to permit equipment certification and use of Maritime Survivor Locating Devices (MSLDs). MSLDs are intended for use by persons at risk of falling into the water such as mariners and workers on marine installations or docks. Fifth, we ask whether to provide for equipment certification and use of Automatic Identification System Search and Rescue Transmitters (AIS-SARTs) devices that comply with international standards. Like EPIRBs, SARTs are carried on board ships to alert others of a distress situation, and to assist search and rescue units in locating those in distress. Unlike traditional 9 GHz SARTs, AIS-SARTs a unique identification code and GPS coordinates to all AIS-equipped vessels within VHF radio range. Sixth, we solicit comment of clarifying certain radar equipment standards that must be met by voluntary and compulsory vessels. The standards currently incorporated in the rules impose unnecessary burdens on voluntary vessels. Seventh, we ask commenters to consider whether we should permit the use of portable marine VHF radio transmitters by persons on shore. Eighth, we invite comment on whether to permit VHF digital small message service (VDSMS) on certain maritime VHF channels to promote flexibility and efficiency in the use of marine communications. Finally, we request comment of whether to allow applications of assignment or transfer control of ship licenses.

Legal Basis

18. Authority for issuance of this item is contained in sections 4(i), 303(r), and 332(a)(2) of the Communications Act of 1934, as amended, 47 U.S.C. 154(i), 303(r), 332(a)(2).

Description and Estimate of the Number of Small Entities to Which the Proposed Rules Will Apply

19. The RFA directs agencies to provide a description of and, where feasible, an estimate of the number of small entities that may be affected by the proposed rules, if adopted. The RFA defines the term “small entity” as having the same meaning as the terms “small business,” “small organization,” and “small governmental jurisdiction.” In addition, the term “small business” has the same meaning as the term “small business concern” under the Small Business Act. A small business concern is one which (1) is independently owned and operated; (2) is not dominant in its field of operation; and (3) satisfies any additional criteria established by the Small Business Administration (SBA).

20. Marine Radio Services. Small businesses in the aviation and marine radio services use a marine very high frequency (VHF), medium frequency (MF), or high frequency (HF) radio, any type of emergency position indicating radio beacon (EPIRB) and/or radar, an aircraft radio, and/or any type of emergency locator transmitter (ELT). The Commission has not developed a definition of small entities specifically applicable to these small businesses. For purposes of this analysis, the Commission uses the SBA small business size standard for the category Wireless Telecommunications Carriers (except satellite),” which is 1,500 or fewer employees. For this category, census data for 2007 show that there were 11,163 establishments that operated for the entire year. Of this total, 10,791 establishments had employment of 999 or fewer employees and 372 had employment of 1000 employees or more. Thus under this category and the associated small business size standard, the Commission estimates that the majority of wireless telecommunications carriers (except satellite) are small entities that may be affected by our proposed action.

21. Wireless Service Providers. The proposed rules would affect licensees using VHF Public Coast spectrum. In the Third Report and Order in PR Docket No. 92-257, the Commission defined the term “small entity” specifically applicable to public coast station licensees as any entity employing less than 1,500 persons, based on the definition under the Small Business Administration rules applicable to radiotelephone service providers. See Amendment of the Commission's Rules Concerning Maritime Communications, Third Report and Order and Memorandum Opinion and Order, PR Docket No. 92-257, 13 FCC Rcd 19853, 19893 (1998) (citing 13 CFR 121.201, Standard Industrial Classification (SIC) Code 4812). Below, we provide the economic census category and data for wireless entities, which encompasses public coast stations.

22. The SBA has developed a small business size standard for wireless firms within the two broad economic census categories of “Paging” and “Cellular and Other Wireless Telecommunications.” Under both categories, the SBA deems a wireless business to be small if it has 1,500 or fewer employees. For the census category of Paging, Census Bureau data for 2002 show that there were 807 firms in this category that operated for the entire year. Of this total, 804 firms had employment of 999 or fewer employees, and three firms had employment of 1,000 employees or more. Thus, under this category and associated small business size standard, the majority of firms can be considered small. For the census category of Cellular and Other Wireless Telecommunications, Census Bureau data for 2002 show that there were 1,397 firms in this category that operated for the entire year. Of this total, 1,378 firms had employment of 999 or fewer employees, and 19 firms had employment of 1,000 employees or more. Thus, under this second category and size standard, the majority of firms can, again, be considered small.

23. Radio Equipment Manufacturers. Some of the rules proposed herein may also affect small businesses that manufacture marine radio equipment and radiobeacon equipment designed for distress alerting and location. The Census Bureau does not have a category specific to these equipment manufacturers. The appropriate category is that for wireless communications equipment manufacturers. The Census Bureau defines this category as follows: “This industry comprises establishments primarily engaged in manufacturing radio and television broadcast and wireless communications equipment. Examples of products made by these establishments are: transmitting and receiving antennas, cable television equipment, GPS equipment, pagers, cellular phones, mobile communications equipment, and radio and television studio and broadcasting equipment.” The SBA has developed a small business size standard for Radio and Television Broadcasting and Wireless Communications Equipment Manufacturing, which is all such firms having 750 or fewer employees. According to Census bureau data for 2007, there were a total of 939 firms in this category that operated that year. Of this total, 912 had fewer than 500 employees and 27 had 500 or more employees. Thus, under this size standard, the majority of firms can be considered small.

Description of Projected Reporting, Recordkeeping, and Other Compliance Requirements

24. We invite interested parties to address the economic impact of these possible rule changes on small vessel operators, small marine radio equipment manufacturers and other small businesses that may be subject to the new requirements. We seek information on whether the compliance costs may outweigh the safety benefits of these rule changes, and whether there are alternative means of securing the safety benefits of these requirements through means that are less burdensome to regulatees. We do not believe any of the matters discussed in the NPRM would have a direct, significant economic impact on a substantial number of small entities. We note that most of the proposals would not require the replacement of any equipment. Only EPIRBs (which only commercial vessels are required to carry) and PLBs (which no vessel is required to carry) might be subject to a requirement to stop using existing models after a certain date. The NPRM seeks comment on whether, and if so, when, to phase out existing EPIRBs and PLBs. However, any commenters that disagree with that tentative conclusion are asked to explain the basis of that disagreement.

Steps Taken To Minimize Significant Economic Impact on Small Entities, and Significant Alternatives Considered

25. The RFA requires an agency to describe any significant alternatives that it has considered in reaching its proposed approach, which may include the following four alternatives, among others: (1) the establishment of differing compliance or reporting requirements or timetables that take into account the resources available to small entities; (2) the clarification, consolidation, or simplification of compliance or reporting requirements under the rule for small entities; (3) the use of performance, rather than design standards; and (4) an exemption from coverage of the rule, or any part thereof, for small entities.

26. In the NPRM, we ask that commenters provide information on economic impact to manufacturers and consumers if the Commission were to adopt various standards to accommodate VDSMS, MSLDs, SENDs, and AIS-SARTs. The proposed requirements for the equipment generally take the form of performance standards rather than design standards, and therefore confer on smaller entities the flexibility to select the most economical design that can achieve the required performance. For example, the RTCM standards for VDSMS, MSLDs and SENDs equipment that we propose to incorporate in 47 CFR Parts 80 and 95 mandate certain functionality for the equipment but do not mandate that manufacturers design their equipment in any particular way in order to achieve that functionality.

27. In the NPRM, we also seek comment on whether the Commission should require that EPIRBs be capable of broadcasting GPS data when activated. Notwithstanding the important safety benefits that would accrue from imposing such a requirement, we request that interested parties to address the cost to comply with the requirement and whether the costs of such a requirement would outweigh the safety benefits. Commenters are asked to suggest any alternatives or supplementary measures that can be taken to facilitate search and rescue efforts. Commenters are asked to address measures to reduce the compliance burden of such a requirement on small entities.

Federal Rules that May Duplicate, Overlap, or Conflict With the Proposed Rules

28. None.

List of Subjects in 47 CFR Parts 1, 80, and 95

Communications equipment, Incorporation by reference, Radio.

Federal Communications Commission.
Marlene H. Dortch,
Secretary.

Proposed Rules

For the reasons discussed in the preamble, the Federal Communications Commission proposes to amend 47 CFR parts 1, 80 and 95 as follows:

PART 1—PRACTICE AND PROCEDURE

1. The authority citation for part 1 continues to read as follows:

Authority: 15 U.S.C. 79 et seq.; 47 U.S.C. 151, 154(i), 154(j), 155, 157, 225, 227, 303(r), 309, 1403, 1404, and 1451.

2. Section 1.948 is amended by revising paragraph (b)(5) to read as follows:

§ 1.948 Assignment of authorization or transfer of control, notification of consummation.

* * * * *

(b) * * *

(5) Licenses, permits, and authorizations for stations in the Amateur, Commercial Operator and Personal Radio Services (except 218-219 MHz Service) may not be assigned or transferred, unless otherwise stated.

* * * * *

PART 80—STATIONS IN THE MARITIME SERVICES

3. The authority citation for part 80 continues to read as follows:

Authority: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

4. Section 80.7 is amended by:

a. Revising paragraphs (b)(28), (d)(5), (d)(8) and (d)(12);

b. Removing paragraph (d)(17);

c. Re-designating paragraphs (d)(14) through (d)(16) as (d)(15) through (d)(17);

d. Adding new paragraph (d)(14);

e. Revising paragraphs (f)(2) and (f)(3) and adding paragraph (f)(4);

f. Removing paragraph (g).

The additions and revisions to read as follows:

§ 80.7 Incorporation by reference.

* * * * *

(b) * * *

(28) IMO Resolution MSC.246(83), (“IMO Resolution MSC.246(83)”) “Adoption of Performance Standards for Survival Craft AIS Search and Rescue Transmitters (AIS-SART) for Use in Search and Rescue Operations.” IBR approved for § 80.233.

* * * * *

(d) * * *

(5) IEC 61097-3:1994 (“IEC 61097-3”), First edition, 1994-06, “Global maritime distress and safety system (GMDSS)—Part 3: Digital selective calling (DSC) equipment—Operational and performance requirements, methods of testing and required testing results,” with Annexes, IBR approved for § 80.1101.

* * * * *

(8) IEC 61097-7:1996 (“IEC 61097-7”), First edition, 1996-10, “Global maritime distress and safety system (GMDSS)—Part 7: Shipborne VHF radiotelephone transmitter and receiver—Operational and performance requirements, methods of testing and required test results,” IBR approved for § 80.1101.

* * * * *

(12) IEC 61097-12:1996(E) (“IEC 61097-12”), First edition, 1996-11, “Global maritime distress and safety system (GMDSS)—Part 12: Survival craft portable two-way VHF radiotelephone apparatus—Operational and performance requirements, methods of testing and required test results,” IBR approved for § 80.1101.

* * * * *

(14) IEC 61097-14 Ed. 1 (“IEC 61097-14”), “Global maritime distress and safety system (GMDSS)—Part 14: AIS search and rescue transmitter (AIS-SART)—Operational and performance requirements, methods of testing and required test results.” ED 1.0 (2010-02), IRB approved for § 80.233.

* * * * *

(f) * * *

(2) RTCM Standard 11000.3 (“RTCM 11000”), “RTCM Standard 11000.3 for 406 MHz Satellite Emergency Position-Indicating Radiobeacons (EPIRBs),” June 12, 2012, IBR approved for § 80.1061.

(3) RTCM Standard 11020.1 (“RTCM 11020”), “RTCM Standard 11020.1, Ship Security Alert Systems (SSAS) Using the Cospas-Sarsat System,” October 9, 2009, IBR approved for § 80.277.

(4) RTCM Standard 12301.1 (“RTCM 12301”), VHF-FM Digital Small Message Services, July 10, 2009, IBR approved for § 80.361.

5. Section 80.157 is revised to read as follows:

§ 80.157 Radio officer defined.

A radio officer means a person holding a First Class Radiotelegraph Operator's Certificate, Second Class Radiotelegraph Operator's Certificate, or Radiotelegraph Operator License issued by the Commission, who is employed to operate a ship radio station in compliance with Part II of Title III of the Communications Act. Such a person is also required to be licensed as a radio officer by the U.S. Coast Guard when employed to operate a ship radiotelegraph station.

6. Section 80.159 is amended by revising paragraph (b) as follows:

§ 80.159 Operator requirements of Title III of the Communications Act and the Safety Convention.

* * * * *

(b) Each cargo ship equipped with a radiotelegraph station in accordance with Part II of Title III of the Communications Act and which has a radiotelegraph auto alarm must carry a radio officer holding a First Class Radiotelegraph Operator's Certificate, Second Class Radiotelegraph Operator's Certificate, or Radiotelegraph Operator License who has had at least six months service as a radio officer on board U.S. ships. If the radiotelegraph station does not have an auto alarm, a second radio officer who holds a First Class Radiotelegraph Operator's Certificate, Second Class Radiotelegraph Operator's Certificate, or Radiotelegraph Operator License must be carried.

* * * * *

7. Section 80.203 is amended by adding paragraphs (b)(3)(i) through-(iv) to read as follows:

§ 80.203 Authorization of transmitters for licensing.

* * * * *

(b) * * *

(3) * * *

(i) Internal adjustments of the transmitter;

(ii) Use of controls normally inaccessible to the station operator;

(iii) Use of external devices or equipment modules made available only to service and maintenance personnel through a service company; and

(iv) Copying of a channel selection program directly from another transmitter (cloning) using devices and procedures made available only to service and maintenance personnel through a service company.

* * * * *

8. Section 80.231 is amended by revising paragraph (c) introductory text to read as follows:

§ 80.231 Technical requirements for Class B Automatic Identification System equipment.

* * * * *

(c) Prior to submitting a certification application for a Class B AIS device, the following information must be submitted in duplicate to the Commandant CG-ENG, U.S. Coast Guard Headquarters, 2100 2nd Street SW., Stop 7126, Washington, DC 20593-7126:

* * * * *

9. Section 80.233 is added to read as follows:

§ 80.233 Technical requirements for Automatic Identification System Search and Rescue Transmitters (AIS-SART) equipment.

(a) Automatic Identification System Search and Rescue Transmitter (AIS-SART) equipment must meet the technical requirements of IEC 61097-14 and IMO Resolution MSC.246(83) (incorporated by reference, see § 80.7(b)).

(b) Prior to submitting a certification application for an AIS-SART device, the following information must be submitted in duplicate to the Commandant CG-ENG, U.S. Coast Guard Headquarters, 2100 Second Street SW. Stop 7126, Washington, DC 20593-7126:

(1) The name of the manufacturer or grantee and the model number of the AIS-SART device; and

(2) Copies of the test report and test data obtained from the test facility showing that the device complies with the environmental and operational requirements identified in IEC 61097-14.

(c) After reviewing the information described in this paragraph (the U.S. Coast Guard will issue a letter stating whether the AIS-SART device satisfies all of the requirements specified in IEC 61097-14.

(d) A certification application for an AIS-SART device submitted to the Commission must contain a copy of the U.S. Coast Guard letter stating that the device satisfies all of the requirements specified in IEC 61097-14, a copy of the technical test data, and the instruction manual(s).

10. Section 80.273 is amended by removing paragraph (b), re-designating paragraphs (c) and (d) as paragraphs (b) and (c), and revising newly re-designated paragraph (b) to read as follows:

§ 80.273 Radar standards.

* * * * *

(b) For any ship of 10,000 tons gross tonnage and upwards or that is otherwise required to be equipped with two radar systems, each of the two radar systems must be capable of operating independently and must comply with the specifications, standards and general requirements set forth on paragraph (a) of this section. One of the systems must provide a display with an effective diameter of not less than 340 millimeters (13.4 inches), (16-inch cathode ray tube). The other system must provide a display with an effective diameter of not less than 250 millimeters (9.8 inches), (12-inch cathode ray tube).

* * * * *

11. Section 80.277 is amended by revising paragraph (a)(1) to read as follows:

§ 80.277 Ship Security Alert System (SSAS).

(a) * * *

(1) Equipment that complies with RTCM 11020 (incorporated by reference, §§ 80.7); or

* * * * *

12. In part 80, subpart H revise the undesignated center heading to read “RADIOTELEGRAPHY AND DATA”.

13. Revise § 80.351 to read as follows:

§ 80.351 Scope.

The following sections describe the carrier frequencies and general uses of radiotelegraphy and data transmission with respect to the following:

(a) Distress, urgency, safety, call and reply.

(b) Working.

(c) Digital selective calling (DSC).

(d) Narrow-band direct-printing (NB-DP).

(e) Facsimile.

(f) VHF-FM digital small message services (VDSMS).

14. Section 80.364 is added under the undesignated center heading for “Radiotelegraphy and Data” to read as follows:

§ 80.364 Frequencies for VHF digital small message services (VDSMS).

(a) Except as set forth in paragraph (b) of this section, frequencies in the 156-162 MHz band may be used for VHF digital small message services (VDSMS) complying with RTCM 12301 (incorporated by reference, see § 80.7).

(b)(1) The following table designates VHF-FM channels not available for digital small message service.

Channel | Frequency (MHz)
06 | 156.300
67 | 156.375
70 | 156.525
13 | 156.650
15 | 156.750
75 | 156.775
16 | 156.800
76 | 156.825
17 | 156.850
22A | 157.100
AIS 1/2 | 161.975/162.025

(2) Unless authorized by the United States Coast Guard, VDSMS is also prohibited in designated U.S. Coast Guard Vessel Traffic Service areas on frequencies reserved for those services under § 80.373(f).

15. Section 80.1005 is revised to read as follows:

§ 80.1005 Inspection of station.

The bridge-to-bridge radiotelephone station will be inspected on vessels subject to regular inspections pursuant to the requirements of Parts II and III of Title III of the Communications Act, the Safety Convention or the Great Lakes Agreement at the time of the regular inspection. If after such inspection, the Commission determines that the Bridge-to-Bridge Act, the rules of the Commission and the station license are met, an endorsement will be made on the appropriate document. The validity of the endorsement will run concurrently with the period of the regular inspection. Each vessel must carry a certificate with a valid endorsement while subject to the Bridge-to-Bridge Act. All other bridge-to-bridge stations will be inspected from time to time. An inspection of the bridge-to-bridge station on a Great Lakes Agreement vessel must normally be made at the same time as the Great Lakes Agreement inspection is conducted by a technician holding one of the following: a General Radiotelephone Operator License, a GMDSS Radio Maintainer's License, a Radiotelegraph Operator License, a Second Class Radiotelegraph Operator's Certificate, or a First Class Radiotelegraph Operator's Certificate. Additionally, the technician must not be the vessel's owner, operator, master, or an employee of any of them. Ships subject to the Bridge-to-Bridge Act may, in lieu of an endorsed certificate, certify compliance in the station log required by § 80.409(f).

16. Section 80.1053 is revised to read as follows:

§ 80.1053 Prohibition on certification, manufacture, importation, sale or use of Class A, Class B, Class S, and INMARSAT-E EPIRBs.

The manufacture, importation, sale or use of Class A, Class B, Class S, or INMARSAT-E EPIRBs is prohibited. New Class A, Class B, Class S, or INMARSAT-E EPIRBs will no longer be certified by the Commission.

17. Section 80.1061 is amended by revising paragraphs (a), (c) introductory text, (c)(1), and (c)(1)(ii) to read as follows:

§ 80.1061 Special requirements for 406.0-406.1 MHz EPIRB stations.

(a) Notwithstanding the provisions in paragraph (b) of this section, 406.0-406.1 MHz EPIRBs must meet all the technical and performance standards contained in RTCM 11000 (incorporated by reference, see § 80.7), and must also comply with the standards specified in § 80.1101(c)(5).

* * * * *

(c) Prior to submitting a certification application for a 406.0-406.1 MHz radiobeacon, the radiobeacon must be certified by a test facility recognized by one of the COSPAS-SARSAT Partners that the equipment satisfies the design characteristics associated with the measurement methods incorporated in RTCM Standard 11000 (incorporated by reference, see § 80.7). Additionally, the radiobeacon must be subjected to the environmental and operational tests associated with the test procedures described in Appendix A of RTCM Standard 11000 (incorporated by reference, see § 80.7), by a test facility accepted by the U.S. Coast Guard for this purpose. Information regarding accepted test facilities may be obtained from Commandant CG-ENG-4, US Coast Guard Headquarters, 2100 Second Street SW., Stop 7126, Washington, DC 20593-7126, http://cgmix.uscg.mil/EQLabs/EQLabsSearch.aspx.

(1) After a 406.0-406.1 MHz EPIRB has been certified by the recognized test facilities the following information must be submitted in duplicate to the Commandant CG-ENG, U.S. Coast Guard Headquarters, 2100 2nd Street SW., Stop 7126, Washington, DC 20593-1726:

* * * * *

(ii) Copies of the certificate and test data obtained from the test facility recognized by a COSPAS/SARSAT Partner showing that the radiobeacon complies with the COSPAS-SARSAT design characteristics associated with the measurement methods described in the COSPAS/SARSAT Standard C/S T.001 and COSPAS-SARSAT Standard C/S T.007, and RTCM 11000 (all incorporated by reference, see § 80.7);

* * * * *

18. Section 80.1085 is amended by revising paragraph (a)(3) to read as follows:

§ 80.1085 Ship radio equipment—General.

* * * * *

(a) * * *

(3) A radar transponder capable of operating in the 9 GHz band or an AIS-SART, which must be stowed so that it is easily utilized (this device may be one of those required by § 80.1095(b) for survival craft);

* * * * *

19. Section 80.1095 is amended by revising paragraph (b) to read as follows:

§ 80.1095 Survival craft equipment.

* * * * *

(b) At least one radar transponder (or AIS-SART) must be carried on each side of every passenger ship and every cargo ship of 500 tons gross tonnage and upwards. At least one radar transponder (or AIS-SART) must be carried on every cargo ship of 300 tons gross tonnage and upwards but less than 500 tons gross tonnage. Such radar transponders (or AIS-SARTs) must conform to performance standards as specified in § 80.233 or § 80.1101. The radar transponders (or AIS-SARTs) must be stowed in such locations that they can be rapidly placed in any survival craft other than life rafts required on cargo ships in forward and aft areas (see Regulation III/26.1.4 of the SOLAS Convention). Alternatively, one radar transponder (or AIS-SART) must be stowed in each survival craft other than those required by Regulation III/26.1.4 of the SOLAS Convention. One of these radar transponders (or AIS-SARTs) may be the radar transponder (or AIS-SART) required by § 80.1085(a)(3).

* * * * *

PART 95—PERSONAL RADIO SERVICES

20. The authority citation for part 95 continues to read as follows:

Authority: Secs. 4, 303, 48 Stat. 1066, 1082, as amended; 47 U.S.C. 154, 303.

21. In part 95, subpart K is amended by revising the subpart heading to read as follows:

Subpart K —Personal Locator Beacons (PLB) and Maritime Survivor Locating Devices (MSLD)

22. Section 95.1400 is revised to read as follows:

§ 95.1400 Basis and purpose.

The rules in this subpart are intended to provide individuals in the water or in remote areas a means to alert others of an emergency situation and to aid search and rescue personnel in locating those in distress.

23. Section 95.1402 is amended by revising paragraph (a) to read as follows:

§ 95.1402 Special requirements for 406 MHz PLBs.

(a) All 406 MHz PLBs must meet all the technical and performance standards contained in the Radio Technical Commission for Maritime (RTCM) Service document “RTCM Standard 11010.2 for 406 MHz Satellite Personal Locator Beacons (PLBs),” with Amendment 1, and with Amendment 2, dated June 8, 2012. This RTCM document is incorporated by reference in accordance with 5 U.S.C. 552(a), and 1 CFR part 51. Copies of the document are available and may be obtained from the Radio Technical Commission for Maritime Services, 1611 N. Kent Street, Suite 605, Arlington, Virginia 22209. The document is available for inspection at Commission headquarters at 445 12th Street SW., Washington, DC 20554. Copies may also be inspected at the National Archives and Records Administration (NARA). For information on the availability of this material at NARA, call 202-741-6030, or go to: http://www.archives.gov/federal_register/code_of_federal_regulations/ibr_locations.html.

* * * * *

24. Section 95.1403 is added to read as follows:

§ 95.1043 Special requirements for Maritime Survivor Locating Devices.

(a) Maritime Survivor Locating Devices (MSLDs) are devices intended to aid in the location of persons in the water. Use on land is not authorized.

(b) Every MSLD sold in the United States after [INSERT DATE ONE YEAR AFTER EFFECTIVE DATE] that provides the functions described in this section, must meet all the technical and performance standards contained in RTCM document “RTCM Standard 11901.1 for Maritime Survivor Locating Devices (MSLD), dated June 4, 2012.” This RTCM document is incorporated by reference in accordance with 5 U.S.C. 552(a), and 1 CFR part 51. Copies of the document are available and may be obtained from the Radio Technical Commission for Maritime Services, 1611 N. Kent Street, Suite 605, Arlington, Virginia 22209. The document is available for inspection at Commission headquarters at 445 12th Street SW., Washington, DC 20554. Copies may also be inspected at the National Archives and Records Administration (NARA). For information on the availability of this material at NARA, call 202-741-6030, or go to: http://www.archives.gov/federal_register/code_of_federal_regulations/ibr_locations.html.

(c) All MSLDs must:

(1) Transmit on at least one of the following frequencies: 121.5 MHz, 156.525 MHz, 156.750 MHz, 156.800 MHz, 156.850 MHz, 161.975 MHz, 162.025 MHz; or

(2) Include a function intended to send a distress message directly to the U.S. Coast Guard or any other search and rescue organization.

(d) No device may be marketed or sold in the United States as a “MSLD” or “Maritime Survivor Locating Device” unless it is compliant with the requirements in this section.

(e) Before an MSLD certification application is submitted to the Commission, the applicant must have obtained test report from a test laboratory which shows that the MSLD complies with the electrical and environmental standards associated with RTCM 11901.1. The test laboratory must be accredited to ISO/IEC 17025 with a scope covering the applicable requirements and test procedures.

[FR Doc. 2014-07140 Filed 3-31-14; 8:45 am]

BILLING CODE 6712-01-P